DEPARTMENT OF ENERGY

Federal Energy Regulatory Commission

[Project No. 12721-004]

Pepperell Hydro Company, LLC; Notice of Preliminary Permit Application Accepted for Filing and Soliciting Comments and Motions To Intervene

June 17, 2010.

On March 9, 2010, the Pepperell Hydro Company, LLC filed an application for a preliminary permit, pursuant to section 4(f) of the Federal Power Act (FPA), proposing to study the feasibility of the East Pepperell Project, located on the Nashua River in Middlesex County, Massachusetts. The sole purpose of a preliminary permit, if issued, is to grant the permit holder priority to file a license application during the permit term. A preliminary permit does not authorize the permit holder to perform any land-disturbing activities or otherwise enter upon lands or waters owned by others without the owners' express permission.

The proposed project would consist of: (1) The existing 27-foot-high, 275-foot-long East Pepperell Dam; (2) an existing intake; (3) an existing 1,465-acre impoundment at a normal maximum water surface elevation of 199.8 feet above mean sea level (with 3-foot-high flashboards in place); (4) an existing 13-foot-diameter, 666-foot-long wood stave penstock; (5) a powerhouse containing three existing generating units and a new low-flow turbine generator located adjacent to the intake gates with a total installed capacity of 2,070 kilowatts; (6) an existing tailrace; (7) an existing switchyard; (8) an existing 7.5-mile-long, 69-kilovolt transmission line owned by National Grid; and (9) appurtenant facilities. The project would have an estimated average annual generation of approximately 8,123 megawatt-hours.

Applicant Contact: Peter B. Clark, Pepperell Hydro Company LLC, P.O. Box 149, 823 Bay Road, Hamilton, MA 01936, (978) 468-3999.

FERC Contact: Brandon Cherry, (202) 502-8328.

Deadline for filing comments or motions to intervene: 60 days from the issuance of this notice. Comments and motions to intervene may be filed electronically via the Internet. See 18 CFR 385.2001(a)(1)(iii) and the instructions on the Commission's Web site (http://www.ferc.gov/docs-filing/ferconline.asp) under the “eFiling” link. For a simpler method of submitting text only comments, click on “Quick Comment.” For assistance, please contact FERC Online Support at FERCOnlineSupport@ferc.gov; call toll-free at (866) 208-3676; or, for TTY, contact (202) 502-8659. Although the Commission strongly encourages electronic filing, documents may also be paper-filed. To paper-file, mail an original and eight copies to: Kimberly D. Bose, Secretary, Federal Energy Regulatory Commission, 888 First Street, NE., Washington, DC 20426.

More information about this project, including a copy of the application, can be viewed or printed on the “eLibrary” link of Commission's Web site at http://www.ferc.gov/docs-filing/elibrary.asp. Enter the docket number (P-12721) in the docket number field to access the document. For assistance, contact FERC Online Support.

Kimberly D. Bose,
Secretary.

[FR Doc. 2010-15385 Filed 6-24-10; 8:45 am]

BILLING CODE 6717-01-P